DEPARTMENT OF HEALTH AND HUMAN SERVICES

Centers for Disease Control and Prevention

Disease, Disability, and Injury Prevention and Control Special Emphasis Panel (SEP): Arthritis and Disability: Biracial Cohort Study of Knee and Hip Osteoarthritis, Potential Extramural Project (PEP) 2007-R-06 and Evaluating Sustainable Delivery Systems for Arthritis Intervention Programs, PEP 2007-R-08

In accordance with Section 10(a)(2) of the Federal Advisory Committee Act (Pub. L. 92-463), the Centers for Disease Control and Prevention (CDC) announces the following meeting of the aforementioned SEP.

Time and Date: 12 p.m.-4 p.m., May 14, 2007 (Closed).

Place: Teleconference.

Status: The meeting will be closed to the public in accordance with provisions set forth in Section 552b(c) (4) and (6), Title 5 U.S.C., and the Determination of the Director, Management Analysis and Services Office, CDC, pursuant to Public Law 92-463.

Matters to be Discussed: The meeting will include the review, discussion, and evaluation of “Arthritis and Disability: Biracial Cohort Study of Knee and Hip Osteoarthritis,” Potential Extramural Project (PEP) 2007-R-06 and “Evaluating Sustainable Delivery Systems for Arthritis Intervention Programs,” PEP 2007- R-08.

For Further Information Contact: Juliana Cyril, M.P.H., Ph.D., CDC, 1600 Clifton Road NE, Mailstop D-72, Atlanta, GA 30333, Telephone (404) 639-4639.

The Director, Management Analysis and Services Office, has been delegated the authority to sign Federal Register notices pertaining to announcements of meetings and other committee management activities, for both CDC and the Agency for Toxic Substances and Disease Registry.

Dated: April 2, 2007.
Elaine L. Baker,
Acting Director, Management Analysis and Services Office, Centers for Disease Control and Prevention.

[FR Doc. E7-6582 Filed 4-6-07; 8:45 am]

BILLING CODE 4163-18-P